DEPARTMENT OF COMMERCE

National Oceanic and Atmospheric Administration

[I.D. 081502C]

Pacific Fishery Management Council; Public Meetings

AGENCY: National Marine Fisheries Service (NMFS), National Oceanic and Atmospheric Administration (NOAA), Commerce.

ACTION: Notice of public meetings.

SUMMARY: The Pacific Fishery Management Council (Council) and its advisory bodies will hold public meetings.

DATES: The Council and its advisory bodies will meet September 7-13, 2002. The Council meeting will begin on Tuesday, September 10, at 10 a.m., reconvening each day through Friday. All meetings are open to the public, except a closed session will be held from 8 a.m. until 10 a.m. on Tuesday, September 10 to address litigation and personnel matters. The Council will meet as late as necessary each day to complete its scheduled business.

ADDRESSES: The meetings will be held at the DoubleTree Hotel Columbia River, 1401 N Hayden Island Drive, Portland, OR 97217; telephone: 503-283-2111.

Council address: Pacific Fishery Management Council, 7700 NE Ambassador Place, Suite 200, Portland, OR 97220.

FOR FURTHER INFORMATION CONTACT: Dr. Donald O. McIsaac, Executive Director; telephone: 503-820-2280 or 866-806-7204.

SUPPLEMENTARY INFORMATION: The following items are on the Council agenda, but not necessarily in this order. All items listed are subject to potential Council action.

A. Call to Order

1. Opening Remarks, Introductions

2. Council Member Appointments

3. Roll Call

4. Executive Director's Report

5. Approve Agenda

6. Approve March and April Minutes

B. Habitat Issues

Essential Fish Habitat Issues

C. Groundfish Management

1. NMFS Report on Groundfish Management

2. Final Harvest Levels and Other Specifications for 2003

3. Adoption of 2003 Groundfish Management Measures

4. Status of Fisheries and Inseason Adjustments

5. Exempted Fishing Permits (EFP): Update and New Proposals

6. Groundfish Programmatic and Essential Fish Habitat FMP Environmental Impact Statements

7. Update on Amendment 16-Rebuilding Plans

8. Groundfish Stock Assessment Priorities for 2003

9. Amendment 17- Multi-Year Management

10. Scoping for Delegation of Nearshore Management Authority

D. Salmon Management

1. NMFS Report

2. Update of Ongoing Fisheries

3. Scientific and Statistical Committee Methodology Review Priorities

E. Marine Reserves

1. Marine Reserve Proposals for Channel Island National Marine Sanctuary

2. Update on Marine Reserves Processes

F. Pacific Halibut Management

1. Status of 2002 Pacific Halibut Fisheries

2. Proposed Changes to the Catch Sharing Plan and Annual Regulations

G. Coastal Pelagic Species Management

1. NMFS Report

2. Pacific Sardine Fishery Update

H. Administrative and Other Matters

1. Legislative Matters

2. Financial Matters

3. Appointments to Advisory Bodies, Standing Committees, and Other Forums

4. Council Staff Work Load Priorities

5. November 2002 Council Meeting Draft Agenda

SCHEDULE OF ANCILLARY MEETINGS
SATURDAY, SEPTEMBER 7, 2002 |
Groundfish Management Team | 1 p.m.
SUNDAY, SEPTEMBER 8, 2002 |
Groundfish Management Team | 8 a.m.
MONDAY, SEPTEMBER 9, 2002 |
Council Secretariat | 8 a.m.
Groundfish Advisory Subpanel | 8 a.m.
Groundfish Management Team | 8 a.m.
Scientific and Statistical Committee | 8 a.m.
Salmon Advisory Subpanel | 10 a.m.
Salmon Technical Team | 10 a.m.
Habitat Committee | 10 a.m.
Legislative Committee | 10 a.m.
Budget Committee | 1 p.m.
TUESDAY, SEPTEMBER 10, 2002 |
Council Secretariat | 7 a.m.
California State Delegation | 7 a.m.
Oregon State Delegation | 7 a.m.
Washington State Delegation | 7 a.m.
Groundfish Advisory Subpanel | 8 a.m.
Groundfish Management Team | 8 a.m.
Scientific and Statistical Committee | 8 a.m.
Salmon Advisory Subpanel | 8 a.m.
Salmon Technical Team | As necessary
Enforcement Consultants | Immediately following Council Session
WEDNESDAY, SEPTEMBER 11, 2002 |
Council Secretariat | 7 a.m.
California State Delegation | 7 a.m.
Oregon State Delegation | 7 a.m.
Washington State Delegation | 7 a.m.
Coastal Pelagic Species Advisory Subpanel | 10 a.m.
Groundfish Advisory Subpanel | As necessary
Groundfish Management Team | As necessary
Salmon Advisory Subpanel | As necessary
Salmon Technical Team | As necessary
Enforcement Consultants | As necessary
THURSDAY, SEPTEMBER 12, 2002 |
Council Secretariat | 7 a.m.
California State Delegation | 7 a.m.
Oregon State Delegation | 7 a.m.
Washington State Delegation | 7 a.m.
Groundfish Advisory Subpanel | As necessary
Salmon Advisory Subpanel | As necessary
Salmon Technical Team | As necessary
Enforcement Consultants | As necessary
FRIDAY, SEPTEMBER 13, 2002 |
Council Secretariat | 7 a.m.
California State Delegation | 7 a.m.
Oregon State Delegation | 7 a.m.
Washington State Delegation | 7 a.m.
Enforcement Consultants | As necessary

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503)820-2280 or (866)806-7204 at least 5 days prior to the meeting date.

Dated: August 15, 2002.
Richard W. Surdi,
Acting Director, Office of Sustainable Fisheries, National Marine Fisheries Service.

[FR Doc. 02-21310 Filed 8-20-02; 8:45 am]

BILLING CODE 3510-22-S